DEPARTMENT OF COMMERCE

National Oceanic and Atmospheric Administration

Meeting: Climate Change Science Program (CCSP) Product Development Committee (CPDC) for Synthesis and Assessment Product 3.3

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 3.3 (CPDC-S&A 3.3) was established by a Decision Memorandum dated October 17, 2006. CPDC-S&A 3.3 is the Federal Advisory Committee charged with responsibility to develop a draft Synthesis and Assessment Product that addresses CCSP Topic 3.3: “Weather and Climate Extremes in a Changing Climate”.

Place: The meeting will be held at the Chicago O'Hare Airport Hilton Hotel, Chicago, Illinois, 60666.

Time and Date: The meeting will convene at 7:30 a.m. on Tuesday, January 9, 2007 and adjourn at 4:30 p.m. the same day. Meeting information will be available online on the CPDC-S&A 3.3 Web site (http://www.climate.noaa.gov/index.jsp?pg=./ccsp/33.jsp). Please note that meeting location, times, and agenda topics described below are subject to change.

Status: The meeting will be open to public participation and will include a 30-minute public comment period on January 9 from 7:30 a.m. to 8 a.m. (check Web site to confirm this time and the room in which the meeting will be held). The CPDC—S&A 3.3 expects that public statements presented at its meetings will not be repetitive of previously submitted verbal or written statements. In general, each individual or group making a verbal presentation will be limited to a total time of five (5) minutes. Written comments (at least 35 copies) should be received by the CPDC—S&A 3.3 Designated Federal Official (DFO) by January 2, 2007 to provide sufficient time for review. Written comments received after January 2 will be distributed to the CPDC—S&A 3.3, but may not be reviewed prior to the meeting date. Seats will be available to the public on a first-come, first-served basis.

Matters to be Considered: The meeting will (1) work on written material for inclusion in an initial draft document; (2) finalize plans for completion and submission of the First Draft of Synthesis and Assessment Product 3.3 to the National Research Council for expert review.

FOR FURTHER INFORMATION CONTACT: Dr. Christopher D. Miller, CPDC—S&A 3.3 DFO and the Program Manager, NOAA/OAR/Climate Program Office, Climate Change Data and Detection Program Element, 1315 East-West Highway, Room 12239, Silver Spring, Maryland 20910; telephone 301-734-1241, e-mail: Christopher.D.Miller@noaa.gov.

Dated: December 12, 2006.
Mark E. Brown,
Chief Financial Officer, Office of Oceanic and Atmospheric Research, National Oceanic and Atmospheric Administration.

[FR Doc. 06-9733 Filed 12-15-06; 8:45 am]

BILLING CODE 3510-KB-P